DEPARTMENT OF LABOR

Employment and Training Administration

[TA-W-64,229; TA-W-64,229A]

Hanesbrands, Inc., Formerly Known as Sara Lee Branded Apparel, Including On-Site Leased Workers from Diversco Integrated Services, Eden, NC; Hanesbrands, Inc., Formerly Known as Sara Lee Branded Apparel, Including On-Site Leased Workers From Diversco Integrated Services, Forest City, NC; Notice of Termination of Investigation

Pursuant to Section 221 of the Trade Act of 1974, as amended, an investigation was initiated on October 16, 2008 in response to a worker petition filed by a company official on behalf of workers of Hanesbrands, Inc., Eden, North Carolina (TA-W-64,229) and Hanesbrands, Inc., Forest City, North Carolina (TA-W-64,229A).

Due to existing certifications issued for Hanesbrands, Inc., Eden, North Carolina (TA-W-64,229) and Hanesbrands, Inc., Forest City, North Carolina (TA-W-64,229A), these certifications have been terminated.

Signed at Washington, DC this 9th day of December 2008.
Elliott S. Kushner,
Certifying Officer, Division of Trade Adjustment Assistance.

[FR Doc. E8-29937 Filed 12-17-08; 8:45 am]

BILLING CODE 4510-FN-P